DEPARTMENT OF COMMERCE

First Responder Network Authority

First Responder Network Authority Board Meetings

AGENCY: First Responder Network Authority (FirstNet), U.S. Department of Commerce.

ACTION: Notice of public meetings.

SUMMARY: The Board of the First Responder Network Authority (FirstNet) will convene an open public meeting of the Board on March 25, 2015, preceded by meetings of the Board Committees on March 24, 2015.

DATES: On March 24, 2015 between 9:00 a.m. and 5 p.m. Eastern Standard Time there will be sequential meetings of FirstNet's four Board Committees: (1) Governance and Personnel; (2) Technology; (3) Outreach; and (4) Finance. The full FirstNet Board will hold a meeting on March 25, 2015 between 9:00 a.m. and 12:00 p.m. Eastern Standard Time.

ADDRESSES: The meetings on March 24 and 25, 2015 will be held in the auditorium of the Herbert C. Hoover Building, U.S. Department of Commerce, 1401 Constitution Avenue NW., Washington, DC.

FOR FURTHER INFORMATION CONTACT: Uzoma Onyeije, Secretary, FirstNet, 12201 Sunrise Valley Drive, M/S 243, Reston, VA 20192; telephone: (703) 648-4165; email: uzoma.onyeije@firstnet.gov. Please direct media inquiries to Ryan Oremland at (703) 648-4114.

SUPPLEMENTARY INFORMATION: This notice informs the public that the Board of FirstNet will convene an open public meeting of the Board on March 25, 2015, preceded by meetings of the Board Committees on March 24, 2015.

Background: The Middle Class Tax Relief and Job Creation Act of 2012 (Act), Public Law 112-96, 126 Stat. 156 (2012), established FirstNet as an independent authority within the National Telecommunications and Information Administration (NTIA) that is headed by a Board. The Act directs FirstNet to ensure the building, deployment, and operation of a nationwide, interoperable public safety broadband network. The FirstNet Board is responsible for making strategic decisions regarding FirstNet's operations. The FirstNet Board held its first public meeting on September 25, 2012.

Matters To Be Considered: FirstNet will post detailed agendas of each meeting on its Web site, http://www.firstnet.gov, prior to the meetings. The agenda topics are subject to change. Please note that the subjects that will be discussed by the Committees and the Board may involve commercial or financial information that is privileged or confidential, personnel matters, or other legal matters affecting FirstNet. As such, the Committee chairs and Board Chair may call for a vote to close the meetings only for the time necessary to preserve the confidentiality of such information, pursuant to 47 U.S.C. 1424(e)(2).

Times and Dates of March 2015 Meetings: On March 24, 2015, between 9:00 a.m. and 5:00 p.m. Eastern Standard Time there will be sequential meetings of FirstNet's four committees. The full FirstNet Board meeting will be held on March 25, 2015, between 9:00 a.m. and 12:00 p.m. Eastern Standard Time.

Place: The meetings on March 24 and 25, 2015 will be held in the auditorium of the Herbert C. Hoover Building, U.S. Department of Commerce, 1401 Constitution Avenue NW., Washington, DC.

Other Information: These meetings are open to the public and press on a first-come, first-served basis. Space is limited. In order to get an accurate headcount, all expected attendees are asked to provide notice of intent to attend by sending an email to BoardRSVP@firstnet.gov. If the number of RSVPs indicates that expected attendance has reached auditorium capacity, FirstNet will respond to all subsequent notices indicating that auditorium capacity has been reached and that in-person viewing may no longer be available but that the meeting may still be viewed by webcast as detailed below. For access to the meetings, valid government issued photo identification may be requested for security reasons.

The meetings are accessible to people with disabilities. Individuals requiring accommodations, such as sign language interpretation or other ancillary aids, are asked to notify Uzoma Onyeije, Secretary, FirstNet, at (703) 648-4165 or uzoma.onyeije@firstnet.gov at least five (5) business days before the meeting.

The meetings will also be webcast. Please refer to FirstNet's Web site at www.firstnet.gov for webcast instructions and other information. The meetings will also be available to interested parties by phone. To be connected to the meetings in listen-only mode by telephone, please dial (888) 997-9859 and passcode 3572169. If you have technical questions regarding the webcast, please contact Margaret Baldwin at (703) 648-4161 or by email at margaret.baldwin@firstnet.gov.

Records: FirstNet maintains records of all Board proceedings. Minutes of the Board Meeting and the Committee meetings will be available at www.firstnet.gov.

Dated: February 26, 2015.
Stuart Kupinsky,
Chief Counsel, First Responder Network Authority.

[FR Doc. 2015-04367 Filed 3-2-15; 8:45 am]

BILLING CODE 3510-TL-P